DEPARTMENT OF HEALTH AND HUMAN SERVICES

Administration for Community Living

Availability of Program Application Instructions for the State Councils on Developmental Disabilities To Expand COVID-19 Vaccine Access for People With Disabilities

Title: Expanding Disabilities Network's (DD Councils) Access to COVID-19 Vaccines.

Announcement Type: Initial.

Statutory Authority: Subtitle B of the Developmental Disabilities Assistance and Bill of Rights Act of 2000 (DD Act).

Catalog of Federal Domestic Assistance (CFDA) Number: 93.630.

DATES: The deadline date for the submission of the Expanding Disabilities Network's (DD Councils) Access to COVID-19 Vaccines is 11:59 p.m. April 21, 2021.

SUPPLEMENTARY INFORMATION:

I. Funding Opportunity Description

The Administration for Community Living (ACL) announced a new funding opportunity to increase vaccine access for people with disabilities. With funding and partnership support from the Centers for Disease Control and Prevention (CDC), ACL is providing grants to disability networks to provide critical services to help communities combat COVID-19. A leading priority of this joint effort is to ensure vaccines are equally accessible to the disability population.

Approximately 61 million adults living with in the U.S. have a disability, representing approximately 26 percent of the adult population. People with disabilities may have an increased risk for contracting COVID-19 based on where they live or the services they receive. Some people with disabilities live in group settings which places them at higher risk for acquiring COVID-19 in comparison to people without disabilities. People with disabilities may also require close contact with direct service providers, including personal care attendants or other care providers, who help with activities of daily living. Moreover, many people with disabilities have underlying health conditions (e.g. diabetes, heart disease, and obesity) that increases the risk of severe illness due to COVID-19. In addition, research has also found that people with Down Syndrome are significantly more likely to be hospitalized from COVID-19 than the general population.

There are increasing reports of barriers and unequal access in communities to vaccinate people with disabilities. For example, some people with disabilities may experience difficulties scheduling appointments, communicating, obtaining accessible transportation or require direct support services to attend vaccination appointments. Others living in the community may be isolated or unable to leave their home and may require in-home vaccination.

This funding opportunity is designed to breakdown those barriers to expand vaccine access in communities. Examples of activities consistent with the purpose of this funding are the following:

• Education about the importance of receiving a vaccine,

• Identifying people unable to independently travel to a vaccination site,

• Helping with scheduling a vaccine appointment,

• Arranging or providing accessible transportation,

• Providing companion/personal support,

• Reminding people of the second vaccination appointment if needed, and/or

• Providing technical assistance to local health departments or other entities on vaccine accessibility.

Awards authorized under Subtitle B of the DD Act, State DD Councils, shall be provided funding under this opportunity. Award recipients will be required to submit annual progress reports on the activities conducted, challenges, successes, and lessons learned and provide a written summary. In addition, to show impact of the grant awards, the grantee will include the number of people served or impacted by the services provided against each of the activities chosen to be implemented. To be eligible to receive this grant, the grantee must submit a Letter of Assurance to ACL containing all of the assurances required, (see below, “Section III. Eligibility Criteria and Other Requirements” and “Section IV. Submission Information”). DD Councils who do not complete assurance requirements below, or otherwise indicate no desire to receive funds will be excluded from receiving funds.

ACL may establish ad hoc dates based on the need of the COVID-19 response, e.g., to meet unanticipated issues related to COVID-19 and/or to allow impacted eligible applicants that missed the cut-off date to submit an application for consideration. ACL intends to issue initial notices of award as applications are received prior to the application due date to address urgent COVID-19 response needs. Second notices of award are planned after the actual number of applicants is finalized.

II. Award Information

1. Funding Instrument Type

These awards will be made in the form of formula grants to State DD Councils.

2. Anticipated Total Funding per Budget Period

Under this program announcement, ACL intends to make grant awards to each State and territory, and the District of Columbia. Awards made under this announcement have an estimated start date of April 14, 2021 and an estimated end date of September 30, 2022, for a 17-month budget and performance period.

The total available funding for this opportunity is $4,000,000. Funding will be distributed based on the state/territory population. There are no cost-sharing nor match requirements. Below are the projected award amounts:

State/territory | Projected amount
Alabama | $55,219
Alaska | 26,695
Arizona | 81,973
Arkansas | 33,986
District of Columbia | 26,695
Florida | 241,881
Georgia | 119,573
Hawaii | 26,695
Idaho | 26,695
Illinois | 142,710
Indiana | 75,818
Iowa | 35,532
Kansas | 32,810
Kentucky | 50,315
Nevada | 34,689
New Hampshire | 26,695
New Jersey | 100,031
New Mexico | 26,695
New York | 219,085
North Carolina | 118,116
North Dakota | 26,695
California | 444,985
Colorado | 64,855
Connecticut | 40,152
Delaware | 26,695
Louisiana | 52,355
Maine | 26,695
Maryland | 68,086
Massachusetts | 77,623
Michigan | 112,472
Minnesota | 63,513
Mississippi | 33,517
Missouri | 69,119
Montana | 26,695
Nebraska | 26,695
Ohio | 131,642
Oklahoma | 44,563
Oregon | 47,500
Pennsylvania | 144,176
Rhode Island | 26,695
South Carolina | 57,985
South Dakota | 26,695
Tennessee | 76,910
Texas | 326,551
Utah | 36,105
Vermont | 26,695
Virginia | 96,127
Washington | 85,759
West Virginia | 26,695
Wisconsin | 65,572
Wyoming | 26,695
American Samoa | 13,902
Guam | 13,902
Northern Marianas | 13,902
Puerto Rico | 35,967
Virgin Islands | 13,902

III. Eligibility Criteria and Other Requirements

1. Eligible Entities

The eligible entity for these awards is the agency designated as a State DD Council in each state or territory.

2. Other Requirements

A. Letter of Assurance

A Letter of Assurance is required to be submitted by the eligible entity in order to receive an award. The Letter of Assurance must include the following:

1. Assurance that the award recipient is the agency or entity designated as the State DD Council in the state or territory.

2. Assurance that funds will supplement and not supplant existing State DD Council funding.

3. Assurance that funds will be spent in ways consistent with the purpose of the funding in carrying out one or more of the following activities:

• Education about the importance of receiving a vaccine,

• Identifying people unable to independently travel to a site,

• Helping with scheduling a vaccine appointment,

• Arranging or providing accessible transportation,

• Providing companion/personal support,

• Reminding people of their second vaccination appointment if needed, and/or,

• Providing technical assistance to local health departments or other entities on vaccine accessibility.

1. Assurance that the award recipient will do outreach to Aging and Disability Resource Centers, Centers for Independent Living, State Councils on Developmental Disabilities, and University Centers for Excellence in Developmental Disabilities to maximize state coordination wherever possible.

4. Assurance to provide semi-annual federal financial reports and annual program reports that describes activities conducted, challenges, successes, and lessons learned. The written summary will also include number of people served or impacted by the services provided.

B. DUNS Number

All grant applicants must obtain and keep current a D-U-N-S number from Dun and Bradstreet. It is a nine-digit identification number, which provides unique identifiers of single business entities. The D-U-N-S number can be obtained from: https://iupdate.dnb.com/iUpdate/viewiUpdateHome.htm.

C. Intergovernmental Review

Executive Order 12372, Intergovernmental Review of Federal Programs, is not applicable to these grant applications.

IV. Submission Information

1. Letter of Assurance

To receive funding, eligible entities must provide a Letter of Assurance containing all the information outlined in Section III above.

Letters of Assurance should be addressed to: Alison Barkoff, Acting Administrator and Assistant Secretary for Aging, Administration for Community Living, 330 C Street SW, Washington, DC 20201.

Letters of Assurance should be submitted electronically via email to your ACL program officer. The following table identifies the designated program officer against each of the 10 ACL regions:

| ACL regions | Email/phone
Sara Newell-Perez, Program Officer | • Region I: CT, MA, ME, NH, RI, VT | sara.newell-perez@acl.hhs.gov, 202-795-7374.
| • Region II: NY, NJ, PR, VI
| • Region III: DC, DE, MD, PA, VA, WV
| • Region IV: AL, FL, GA, KY, MS, NC, SC, TN
| • Region VI: AR, LA, OK, NM, TX
Shawn Callaway, Program Officer | • Region V: IL, IN, MI, MN, OH, WI | shawn.callaway@acl.hhs.gov, 202-795-7319.
| • Region VII: IA, KS, MO, NE
| • Region VIII: CO, MT, UT, WY, ND, SD
| • Region IX: CA, NV, AZ, HI, GU, CNMI, AS
| • Region X: AK, ID, OR, WA

2. Submission Dates and Times

To receive consideration, Letters of Assurance must be submitted by 11:59 p.m. Eastern Time on April 21, 2021. Letters of Assurance should be submitted electronically via email and have an electronic time stamp indicating the date/time submitted.

VII. Agency Contacts

1. Programmatic Issues

Direct programmatic inquiries to your program officer:

ACL Regions I, II, III, IV, and VI—Sara Newell-Perez, Email: Sara.Newell-Perez@acl.hhs.gov, Phone: 202-795-7374

ACL Regions V, VII, VIII, IX, and X—Shawn Callaway, Email: Shawn.Callaway@acl.hhs.gov, Phone: 202-795-7319

2. Submission Issues

Direct inquiries regarding submission of the Letters of Assurance to the appropriate ACL Program Officer found in the table in “Section IV. Submission Information.”

Dated: April 1, 2021.
Alison Barkoff,
Acting Administrator and Assistant Secretary for Aging.

[FR Doc. 2021-07126 Filed 4-6-21; 8:45 am]

BILLING CODE 4154-01-P